DEPARTMENT OF COMMERCE

Submission for OMB Review: Comment Request

The Department of Commerce will submit to the Office of Management and Budget (OMB) for clearance the following proposal for collection of information under the provisions of the Paperwork Reduction Act (44 U.S.C. Chapter 35).

Agency: National Telecommunications and Information Administration (NTIA).

Title: BroadbandMatch Web Site Tool.

OMB Control Number: 0660-0033.

Form Number: None.

Type of Request: Regular Submission (Extension of a currently approved information collection).

Number of Respondents: 4,500.

Average Time per Response: 15 minutes.

Burden Hours: 1,125.

Needs and Uses: The Department of Commerce's National Telecommunications and Information Administration (NTIA) and the Department of Agriculture's Rural Utility Service (RUS) are administering an initiative of the American Recovery and Reinvestment Act (Recovery Act) to expand access to and adoption of broadband services. NTIA is utilizing that funding for its Broadband Technology Opportunities Program (BTOP), to support broadband infrastructure deployment, enhanced and expanded public computer centers, and projects encouraging sustainable adoption of broadband service. To help potential applicants to BTOP and the RUS' Broadband Initiatives Program (BIP), the agencies developed BroadbandMatch during the second funding round as an online tool for applicants to identify prospective partners with needed expertise and resources to strengthen their BTOP and BIP proposals.

The long-term success and sustainability of these projects require wide stakeholder support and coordination. Therefore, NTIA will continue BroadbandMatch as an ongoing resource for communities pursuing broadband projects and programs to advance the Presidential goal of universal, affordable broadband access for all Americans. The information collected through BroadbandMatch will facilitate collaboration among interested stakeholders. The online tool is also a useful means for businesses, non-profits, and state and local governments, and others to find potential partners to support their broadband initiatives, including alternative funding sources for projects that did not receive Recovery Act awards and additional resources for those projects that did.

Further, BroadbandMatch will complement other Administration efforts to promote ubiquitous broadband deployment and adoption in the United States. Significantly, the Recovery Act obligates NTIA to release publicly by February 17, 2011 a National Broadband Map developed from data collected and verified through grants from NTIA's State Broadband Data and Development grant program. The interactive national map will help educate consumers and businesses about broadband availability, enable broadband providers and investors to make better-informed decisions regarding the use of their private capital, and allow federal, state, and local policy-makers to make more data-driven decisions on behalf of their constituents. BroadbandMatch can help community residents and leaders identify interested partners to improve broadband availability and adoption in their localities.

Affected Public: Individuals or households; business and other for-profit organizations; not-for-profit institutions; and state or local government entities.

Frequency: On occasion.

Respondent's Obligation: Voluntary.

OMB Desk Officer: Nicholas Frazer, (202) 395-5887.

Copies of the above information collection proposal are available by contacting Diana Hynek, Departmental Paperwork Clearance Officer, (202) 482-0266, Department of Commerce, Room 6616, 14th and Constitution Avenue, NW., Washington, DC 20230 or via the Internet at dHynek@doc.gov.

Written comments and recommendations for the proposed information collection should be sent within 30 days of publication of this notice to Nicholas Fraser, OMB Desk Officer, Fax number (202) 395-7285 or at Nicholas_A._Fraser@omb.eop.gov.

Dated: October 18, 2010.
Gwellnar Banks,
Management Analyst, Office of the Chief Information Officer.

[FR Doc. 2010-26564 Filed 10-21-10; 8:45 am]

BILLING CODE 3510-06-P